FEDERAL COMMUNICATIONS COMMISSION

[WT Docket No. 02-55; DA 05-2390]

Private Land Mobile Services; 800 MHz Public Safety Interference Proceeding; NPSPAC Regions Assigned to Wave 2

AGENCY: Federal Communications Commission.

ACTION: Notice.

SUMMARY: As part of the 800 MHz band reconfiguration process, the Commission stated that it would issue a public notice thirty days before reconfiguration is scheduled to start in each National Public Safety Planning Advisory Committee (NPSPAC) region. Each such public notice will specify a three-month voluntary negotiation period during which time identified licensees in the regions being reconfigured are encouraged to reach agreement with Nextel on the details of relocating. The voluntary negotiation period would be followed by a three-month mandatory negotiation period, if necessary. The Commission also stated that it would freeze the filing of certain 800 MHz applications for the regions being reconfigured when it issued a public notice announcing the date when voluntary negotiation of relocation agreements must be concluded. The Commission explained that this freeze is necessary in order to maintain a stable spectral landscape during the reconfiguration process in each region.

DATES: This Notice announces that 800 MHz band reconfiguration for NPSPAC Regions in Wave 2 commenced on October 3, 2005.

FOR FURTHER INFORMATION CONTACT: Roberto Mussenden, Roberto.Mussenden@FCC.gov, Public Safety and Critical Infrastructure Division, Wireless Telecommunications Bureau, (202) 418-0680, TTY (202) 418-7233.

SUPPLEMENTARY INFORMATION: This is a summary of a public notice released on September 2, 2005.

1. In July 2004, the Federal Communications Commission (Commission) adopted a Report and Order in this docket which, inter alia, reconfigured the 800 MHz band to eliminate interference to public safety and other land mobile communication systems operating in the band. See 69 FR 67823, November 22, 2004, modified by 70 FR 6758, February 8, 2005. As specified in the Report and Order, the band reconfiguration process is being overseen by a Transition Administrator (TA) which has provided the Commission with a plan detailing when band reconfiguration will commence in each of the fifty-five 800 MHz National Public Safety Planning Advisory Committee (NPSPAC) regions. On March 11, 2005, the Bureau approved the TA's basic 800 MHz band reconfiguration schedule, i.e., the grouping of the NPSPAC regions into four waves (Waves 1-4) and starting the reconfiguration process in each wave on the dates recommended by the TA. See 70 FR 21786, April 27, 2005.

2. As part of the 800 MHz band reconfiguration process, the Commission stated that it would issue a Public Notice thirty days before reconfiguration is scheduled to start in each NPSPAC region. Each such Public Notice specifies a three-month voluntary negotiation period during which time identified licensees in the regions being reconfigured are encouraged to reach agreement with Nextel on the details of relocating. The voluntary negotiation period is followed by a three-month mandatory negotiation period, if necessary. The Commission also stated that it would freeze the filing of certain 800 MHz applications for the regions being reconfigured when it issued a Public Notice announcing the date when voluntary negotiation of relocation agreements must be concluded. The Commission explained that this freeze is necessary in order to maintain a stable spectral landscape during the reconfiguration process in each region. The Commission delegated authority to issue these Public Notices to the Public Safety and Critical Infrastructure Division of the Wireless Telecommunications Bureau (WTB).

3. On May 27, 2005, WTB released a Public Notice announcing the reconfiguration start date for the NPSPAC regions assigned to Wave 1 (i.e., for the non-NPSPAC channels therein). See 70 FR 34764-02, June 15, 2005. This Wave 1 PN also specified the 800 MHz reconfiguration benchmark compliance dates. By this Public Notice, we announce that the 800 MHz band reconfiguration process for non-NPSPAC channels will start October 3, 2005, in the NPSPAC regions assigned to Wave 2. A list of NPSPAC regions assigned to Wave 2 is attached below. The three-month period during which non-NPSPAC 800 MHz licensees have the option of negotiating on a voluntary basis will end January 2, 2006. The three-month mandatory negotiation period will end April 2, 2006.

4. We also announce by this Public Notice that, effective immediately, we are freezing the filing of 800 MHz applications for non-NPSPAC channels in Wave 2. The freeze applies to stations located in all of the NPSPAC regions assigned to Wave 2 and to stations within seventy miles of the borders of the Wave 2 regions. This freeze is effective on the release date of this Public Notice and will last until thirty working days after the date for completion of mandatory negotiations as specified above, i.e., until May 12, 2006. The freeze does not apply to modification applications filed to implement 800 MHz band reconfiguration, modification applications filed that do not change an 800 MHz frequency or expand a 800 MHz station's existing coverage area (e.g., administrative updates), assignments/transfers, or renewal-only applications.

5. To facilitate the 800 MHz reconfiguration process, the Commission has established the following new radio service codes for licenses that list 800 MHz band frequencies governed by part 90 of the Commission's Rules:

Site specific licenses:

• Public safety (conventional)—GE

• Public safety (trunked)—YE

• Business/Industrial/Land Transportation (conventional)—GJ

• Business/Industrial/Land Transportation (trunked)—YJ

• SMR (conventional)—GM and GL (The GL code is used only for applications listing both 800 MHz and 900 MHz frequencies)

• SMR (trunked)—YM and YL (The YL code is used only for applications listing both 800 MHz and 900 MHz frequencies)

Geographic area licenses:

• SMR, market area—YH and CY (The CY code is used only for applications listing both 800 MHz and 1.9 GHz frequencies)

Appendix.—NPSPAC Regions Assigned to Wave 2
NPSPAC region ¹ | Description of region ²
4 | Arkansas.
12 | Idaho.
15 | Iowa.
16 | Kansas.
17 | Kentucky.
22 | Minnesota.
24 | Missouri.
25 | Montana.
26 | Nebraska.
32 | North Dakota.
34 | Oklahoma.
38 | South Dakota.
39 | Tennessee.
40 | Texas (Central & Northeast).
44 | West Virginia.
46 | Wyoming.
47 | Puerto Rico.
48 | U.S. Virgin Islands.
49 | Texas (Central—Austin area).
51 | Texas (East—Houston area).
52 | Texas (Panhandle, High Plains & Northwest-Lubbock area).
* | Large non-public safety systems that cover multiple NPSPAC regions. ³
¹ Per the TA's request, we are moving the Louisiana NPSPAC region (#18) from Wave 2 to Wave 3. See letter from Bob Kelly to Michael Wilhelm, Chief Public Safety and Critical Infrastructure Division, dated September 2, 2005.
² Regions that are only a portion of a state or states are defined by counties. A list of the counties in each of these regions can be accessed at http://www.fcc.gov/Bureaus/Wireless/Orders/1998/fcc98191.txt.
³ Large non-public safety systems that had no systems in Wave 1 and that provide coverage beyond the border of NPSPAC regions in Wave 2 will commence reconfiguration of their entire system, including base stations located outside the boundaries of Wave 2 NPSPAC regions, as part of the Wave 2 reconfiguration process.

6. The Commission's Universal Licensing System (ULS) will automatically update modification applications filed to implement 800 MHz band reconfiguration to show the appropriate new radio service code (i.e., applicants should file using their current radio service codes). Once the radio service code has been changed on the license by the Commission, licensees filing subsequent applications concerning that license must use the new radio service code.

7. The Reconfiguration Plan filed by the TA is available on the Commission's 800 MHz band reconfiguration Web page at http://www.800MHz.gov. Questions concerning the plan, and other Transition Administrator matters, including whether your 800 MHz system must be relocated, should be directed to Brett Haan, BearingPoint, 1676 International Drive, McLean, VA 22102, Brett.Haan@800ta.org. For additional information on 800 MHz band reconfiguration issues, generally, please contact Roberto Mussenden, Esq., Public Safety and Critical Infrastructure Division, Wireless Telecommunications Bureau, at (202) 418-0680, TTY (202) 418-7233, or via e-mail to Roberto.Mussenden@fcc.gov.

Federal Communications Commission.
Scot Stone,
Deputy Chief, Public Safety and Critical Infrastructure Division, Wireless Telecommunications Bureau.

[FR Doc. 05-21297 Filed 10-25-05; 8:45 am]

BILLING CODE 6712-01-P